DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 70 FR 55859-55860, dated September 23, 2005) is amended to reflect the establishment of the Office of Strategy and Innovation within the Office of the Director, Centers for Disease Control and Prevention.

After the mission statement for the Office of Chief of Public Health Practice (CAR), insert the following:

Office of Strategy and Innovation (CAM). The Office of Strategy and Innovation (OSI) serves as the focal point for accelerating the health impact of CDC's work and advancing health equity within and beyond CDC's programs. In carrying out its mission, OSI: (1) Leads CDC's efforts to develop, measure and advance agency-wide health impact goals: (2) incorporates efforts to improve health equity in all CDC activities; (3) fosters strategic excellence and innovation across the agency; (4) provides superior decision support to CDC's executive leadership; and (5) leads organizational development and the transition process.

Office of the Director (CAM1). (1) Develops, monitors and advances agency-wide goals; (2) improves health equity; (3) assesses and leverages health needs, science, and available resources to accomplish agency-wide goals; (4) provides guidance, tools, and assistance to CDC programs in developing and refining strategies and indicators to measure program effectiveness and impact; (5) applies knowledge management tools and decision support systems in allocation of resources and improves agency decisionmaking; (6) communicates key messages to CDC employees and partners about CDC's direction, goals and priorities; (7) develops, monitors and advances agency-wide goals for improving health equity, fostering strategic excellence and innovation across CDC, and organizational development and the transition process; (8) works directly with the strategy and innovation officers within the coordinating centers to accomplish its activities and institutionalize organizational change, improvement and accountability; and (9) maintains ongoing communication with the strategy and innovation officers to actively participate in discussions of overall goals and strategies at the coordinating center level, and involves the strategy and innovation officers in the refinement of goals, measures, and identification and creation of new or enhanced high priority programmatic areas.

Office of Minority Health and Health Disparities (CAMB). The Office of Minority Health and Health Disparities (OMHD) aims to accelerate CDC's health impact in the U.S. population and to eliminate health disparities for vulnerable populations as defined by race/ethnicity, socio-economic status, geography, gender, age, disability status, risk status related to sex and gender, and among other populations identified to be at-risk for health disparities. To carry out its mission, OMHD: (1) Promotes minority health and eliminates racial and ethnic health disparities; (2) promotes health and the prevention of disease in Indian Country (i.e., American Indian and Alaska Native communities, their sovereign governments and other institutions in the U.S.); (3) develops CDC-wide health disparities elimination strategies, policies, goals, and programs; (4) defines disparities and eliminates sub-goals for each health impact goal; (5) monitors and reports progress toward health disparities elimination goals; (6) evaluates the impact of policies and programs to achieve health disparities elimination; (7) manages health disparities elimination goals through scanning, analysis, knowledge management, decision-support systems, and reporting (Key Performance Indicators, Government Performance and Results Act, Program Assessment Rating Tool); (8) mobilizes resources and advocates for health disparities elimination programs; (9) aligns use of resources with accomplishment of health disparities elimination goals; (10) supports internal and external partnerships to advance the science, practice, and workforce for eliminating health disparities inside and outside CDC; (11) maintains critical linkages with federal partners including the Office of the Secretary, Department of Health and Human Services, and represents CDC on related scientific and policy committees; (12) establishes external advisory capacity and internal advisory and action capacity; (13) coordinates CDC-wide minority health and health disparities elimination initiatives; (14) synthesizes, disseminates, and encourages use of scientific evidence regarding effective interventions to achieve health disparities elimination outcomes; (15) stimulates innovation in science and practice; and (16) provides decision support to the Executive Leadership Board in allocating CDC resources to agency-wide programs of surveillance, research, intervention, and evaluation.

Office of Women's Health (CAMG). The Office of Women's Health (OWH) aims to promote and improve the health, safety, and quality of life of women. As a leader for women's health issues at CDC, the Office of Women's Health: (1) Advises the CDC Director on matters relating to women's health research, programs and strategies; (2) promotes the health and well-being of women; (3) communicates health information, research findings, and prevention strategies to a diverse group of providers, consumers, and organizations; (4) advances sound scientific knowledge for public health action, promotes the role of prevention, and works to improve the understanding of women's health priorities; (5) fosters partnerships and collaborations within CDC and with other public and private organizations, agencies, institutions, and others to improve the health and safety of women; (6) publishes newsletters and other documents that highlight prevention programs, research findings, publications, health campaigns, health promotion strategies, and other information available at CDC; (7) leads CDC Women's Health Committee by facilitating and coordinating agency-wide efforts and enhancing channels for communication and cooperation; (8) supports the development of future women's health and public health professionals through various training and student positions within the office; (9) prepares agency reports, briefing documents, and other materials addressing women's health issues; (10) stimulates and supports prevention research, programs, and other activities through funding; (11) represents the agencies at meetings, committees, workgroups, conferences, and briefings; (12) serves as liaison for women's health between CDC and other agencies and organizations; (13) develops opportunities for, promotes, and supports the agency as a resource for women's health issues; and (14) provides assistance to state and local programs on women's health issues.

Dated: September 23, 2005.
William H. Gimson,
Chief Operating Officer, Centers for Disease Control and Prevention (CDC).

[FR Doc. 05-20057 Filed 10-5-05; 8:45 am]

BILLING CODE 4160-18-M